ENVIRONMENTAL PROTECTION AGENCY

[EPA-HQ-OPP-2010-0012; FRL-8858-7]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before March 7, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at their Division: Biopesticides and Pollution Prevention Division (7511P) or Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 0E7787. (EPA-HQ-OPP-2010-0916). Interregional Research Project, No. 4 (IR-4), 500 College Road East, Suite 201 W, Princeton, NJ 08540, proposes to establish a tolerance in 40 CFR part 180 for residues of the insecticide hexythiazox (trans-5-(4-chlorophenyl)-N-cyclohexyl-4-methyl-2-oxothiazolidine-3-carboxamide) and its metabolites containing the (4-chlorophenyl)-4-methyl-2-oxo-3-thiazolidine moiety, in or on tomato at 0.50 parts per million (ppm). A practical analytical method, high pressure liquid chromatography (HPLC) with an ultraviolet (UV) detector, which detects and measures residues of hexythiazox and its metabolites as a common moiety, is available for enforcement purposes with a limit of detection that allows monitoring of food with residues at or above the level set in this tolerance. Contact: Sidney Jackson, (703) 305-7610, Registration Division (7505P), e-mail address: jackson.sidney@epa.gov.

2. PP 0E7793. (EPA-HQ-OPP-2010-0957). BASF Corporation, 26 Davis Drive, Research Triangle Park, NC 27709, proposes to establish a tolerance in 40 CFR part 180 for residues of the herbicide imazapyr, 2-[4,5-dihydro-4-methyl-4-(1-methylethyl)-5-oxo-]H-imidazol-2-yl]-3-pyridinecarboxylic acid], in or on soybean at 4.0 ppm; and in or on the processed commodity soybean meal at 4.5 ppm. The proposed analytical method for detecting residues of imazapyr in soybean seed and processed fractions is a liquid chromatography-tandem mass spectrometry (LC-MS/MS) method. This validated method has a level of quantitation (LOQ) of 0.01 milligrams/kilogram. Contact: Hope Johnson, (703) 305-5410, Registration Division (7505P), e-mail address: johnson.hope@epa.gov.

3. PP 0E7806. (EPA-HQ-OPP-2010-1026). BASF Corporation, 26 Davis Drive, P.O. Box 13528, Research Triangle Park, NC 27709-3528, proposes to establish import tolerances in 40 CFR part 180 for residues of the herbicide saflufenacil, including its metabolites and degradates, in or on banana, whole fruit at 0.03 ppm; coffee, green bean at 0.03 ppm; and mango, fruit at 0.03 ppm. Compliance with the tolerance levels is to be determined by measuring only the sum of saflufenacil, 2-chloro-5-[3,6-dihydro-3-methyl-2,6-dioxo-4-(trifluoromethyl)-1(2H)-pyrimidinyl]-4-fluoro-N-[[methyl(1-methylethyl)amino]sulfonyl]benzamide, and its metabolites N-[2-chloro-5-(2,6-dioxo-4-(trifluoromethyl)-3,6-dihydro-1(2H)-pyrimidinyl)-4-fluorobenzoyl]-N'-isopropylsulfamide and N-[4-chloro-2-fluoro-5-({[(isopropylamino)sulfonyl]amino} carbonyl)phenyl]urea, calculated as the stoichiometric equivalent of saflufenacil, in or on the commodities. Adequate enforcement methodology (liquid chromatography/mass spectrometry/mass spectrometry (LCMS/MS) methods D0603/02 (plants) and L0073/01 (livestock)) is available to enforce the tolerance expression. Contact: Susan Stanton, (703) 305-5218, Registration Division (7505P), e-mail address: stanton.susan@epa.gov.

4. PP 0F7741. (EPA-HQ-OPP-2010-0938). Monsanto Company, 1300 I St., NW., Suite 450 East, Washington, DC 20052, proposes to establish a tolerance in 40 CFR part 180 for residues of the herbicide glyphosate, N-(phosphonomethyl) glycine, in or on corn, field, forage at 13 ppm to support the use of glyphosate in RHS seed corn production. Adequate enforcement methods are available for analysis of residues of glyphosate and its metabolite AMPA in or on plant and livestock commodities. These methods include gas liquid chromatography (GLC), Method I in Pesticides Analytical Manual (PAM) II (0.05 ppm limit of detection (LOD)), and HPLC with fluorometric detection (0.0005 ppm (LOD)). The HPLC procedure has undergone successful Agency validation and was recommended for inclusion in PAM II. A gas chromatography/mass spectrometry (GC/MS) method for glyphosate in crops has also been validated by EPA's 2 Analytical Chemistry Laboratory (ACL). Contact: Hope Johnson, (703) 305-5410, Registration Division (7505P), e-mail address: johnson.hope@epa.gov.

5. PP 0F7785. (EPA-HQ-OPP-2010-0959). Syngenta Crop Protection, Inc., P.O. Box 18300, Greensboro, NC 27419, proposes to establish a tolerance in 40 CFR part 180 for residues of the fungicide difenoconazole, 1-[2-[2-chloro-4-(4-chlorophenoxy) phenyl]-4-methyl-1,3-dioxolan-2-ylmethyl]-1H-1,2,4-triazole, in or on oats, grain at 0.1 ppm; and in or on rye, grain at 0.1 ppm. A practical analytical method (AG-5758) for detecting and measuring levels of difenoconazole in or on food with an LOQ that allows monitoring of food with residues at or above the levels set in the proposed tolerances. Method REM 147.08 is also available for enforcement method for the determination of residues of difenoconazole in crops. Residues are qualified by LC-MS/MS. A practical analytical method (AG-544A) for detecting and measuring levels of difenoconazole in or on cattle tissues and milk, and poultry tissues and eggs with an LOQ that allows monitoring of food with residues at or above the levels set in the proposed tolerances. Contact: Rose Mary Kearns, (703) 305-5611, Registration Division (7505P), e-mail address:kearns.rosemary@epa.gov.

6. PP 0F7796. (EPA-HQ-OPP-2010-0905). Interregional Research Project Number 4 (IR-4), 500 College Road East, Suite 201 W, Princeton, NJ 08540, proposes to establish a tolerance in 40 CFR part 180 for residues of the herbicide 2,4-D (2,4-dichlorophenoxyacetic acid), both free and conjugated, determined as the acid, in or on teff, bran at 4.0 ppm; teff, forage at 25.0 ppm; teff, grain at 2.0 ppm; and teff, straw at 50.0 ppm. An adequate gas/electron chromatography detection (GC/ECD) enforcement method for plants (designated as EN-CAS Method No. ENC-2/93) is available and has been independently validated. Adequate radiovalidation data have been submitted and evaluated for the enforcement method using samples from the wheat metabolism study. Contact: Laura E. Nollen, (703) 305-7390, Registration Division (7505P), e-mail address: nollen.laura@epa.gov.

New Tolerance Exemption

1. PP 0E7784. (EPA-HQ-OPP-2010-0878). Rhodia, Inc., c/o SciReg, Inc., 12733 Director's Loop, Woodbridge VA 22192, proposes to establish an exemption from the requirement of a tolerance for residues of carboxymethyl guar gum sodium salt (CAS No. 39346-76-4) with a minimum number average molecular weight (in amu) of 100,000 under 40 CFR 180.920 when used as a thickener/drift reduction agent in pesticide formulations. Based upon the structural similarities between carboxymethyl guar, guar gum, hydroxypropyl guar, and carboxymethyl-hydroxypropyl guar, the tolerance exemption petition for carboxymethyl guar gum sodium salt summarizes and relies upon available data on all four substances. Rhodia, Inc. is requesting that carboxymethyl guar be exempt from the requirement of a tolerance under 40 CFR 180.920. Therefore, Rhodia, Inc. believes that an analytical method to determine residues in treated crops is not relevant. Contact: Alganesh Debesai, (703) 308-8353, Registration Division (7505P), e-mail address: debesai.alganesh@epa.gov.

2. PP 0E7803. (EPA-HQ-OPP-2010-1019). Rhodia, Inc., c/o SciReg, Inc., 12733 Director's Loop, Woodbridge VA 22192, proposes to establish an exemption from the requirement of a tolerance for residues of carboxymethyl-hydroxypropyl guar (CAS No. 68130-15-4) with a minimum number average molecular weight (in amu) of 100,000 under 40 CFR 180.920 when used as a thickener/drift reduction agent in pesticide formulations. Based upon the structural similarities between carboxymethyl-hydroxypropyl guar, guar gum, hydroxypropyl guar, and carboxymethyl guar, the tolerance exemption petition for carboxymethyl-hydroxypropyl guar summarizes and relies upon available data on all four substances. Rhodia, Inc. is requesting that carboxymethyl-hydroxypropyl guar be exempt from the requirement of a tolerance under 40 CFR 180.920. Therefore, Rhodia, Inc. believes that an analytical method to determine residues in treated crops is not relevant. Contact: Alganesh Debesai, (703) 308-8353, Registration Division (7505P), e-mail address: debesai.alganesh@epa.gov.

3. PP 0F7745. (EPA-HQ-OPP-2010-0805). Pasteuria Bioscience, Inc., 12085 Research Drive, Suite 185, Alachua, FL 32615, proposes to establish an exemption from the requirement of a tolerance for residues of the microbial pesticide Pasteuria reniformis—Pr3 [SD-5834], in or on all raw agricultural crops. The petitioner believes no analytical method is needed because an exemption from the requirement of a tolerance is being sought. Contact: Jeannine Kausch, (703) 347-8920, Biopesticides and Pollution Prevention Division (7511P), e-mail address: kausch.jeannine@epa.gov.

4. PP 0F7749. (EPA-HQ-OPP-2010-0807). Pasteuria Bioscience, Inc., 12085 Research Drive, Suite 185, Alachua, FL 32615, proposes to establish an exemption from the requirement of a tolerance for residues of the microbial pesticide Pasteuria nishizawae—Pn1 [SD-5833], in or on all raw agricultural crops. The petitioner believes no analytical method is needed because an exemption from the requirement of a tolerance is being sought. Contact: Jeannine Kausch, (703) 347-8920, Biopesticides and Pollution Prevention Division (7511P), e-mail address: kausch.jeannine@epa.gov.

5. PP 0F7760. (EPA-HQ-OPP-2010-0944). Certis USA LLC, 9145 Guilford Road, Suite 175, Columbia, MD 21046, proposes to establish an exemption from the requirement of a tolerance for residues of the microbial pesticide Bacillus subtilis var. amyloliquefaciens strain D747 in or on all agricultural commodities when applied/used in accordance with label directions. No analytical method is needed because this petition requests an exemption from the requirement of a tolerance. Contact: Susanne Cerrelli, (703) 308-8077, Biopesticides and Pollution Prevention Division (7511P), e-mail address: cerrelli.susanne@epa.gov.

List of Subjects

Environmental protection, Agricultural commodities, Feed additives, Food additives, Pesticides and pests, Reporting and recordkeeping requirements.

Dated: January 21, 2011.
Lois Rossi,
Director, Registration Division, Office of Pesticide Programs.

[FR Doc. 2011-2509 Filed 2-3-11; 8:45 am]

BILLING CODE 6560-50-P